FEDERAL COMMUNICATIONS COMMISSION

47 CFR Part 80

[WT Docket No. 00-48; RM-9499; DA 00-1628]

Maritime Communications

AGENCY: Federal Communications Commission.

ACTION: Proposed rule; extension of comment period.

SUMMARY: On July 21, 2000, the Public Safety and Private Wireless Division released an order extending the comment and reply comment period in WT Docket No. 00-48. The extension was requested to allow interested parties more time to propose new maritime requirements and to evaluate the existing regulations for proposal of the removal of unnecessary or duplicative requirements from its rules. The comment period is extended from July 24, 2000 to August 23, 2000, and the reply comment period is extended from August 22, 2000 to September 21, 2000.

DATES: Comments are to be filed on or before August 23, 2000, and reply comments on or before September 21, 2000.

ADDRESSES: Federal Communications Commission, 445 12th St., SW., Washington, DC 20554.

FOR FURTHER INFORMATION CONTACT: Genevieve Augustin, Wireless Telecommunications Bureau, Public Safety & Private Wireless Division, (202) 418-0680 or via E-mail to “gaugusti@fcc.gov”.

SUPPLEMENTARY INFORMATION: The Order was adopted on July 20,2000 and released on July 21, 2000. The document is available, in entirety, for inspection and copying during normal business hours in the FCC Reference Center (Room CY-A257), 445 12th Street, SW., Washington, DC 20554. It may also be purchased from the Commission's copy contractor, International Transcription Services, Inc. (ITS, Inc.) 1231 20th Street, NW., Washington, DC 20036, (202) 857-3800. In addition, it is available on the Commission's website at http://www.fcc.gov/Bureaus/Wireless/Ordes/2000/fcc00076.pdf.

Summary of the Order

1. On July 14, 2000, the United States Coast Guard (USCG) requested that the time for filing comments in response to the Notice of Proposed Rule Making (NPRM), 65 FR 21695, April 24, 2000, in the above-captioned proceeding released by the Commission on March 24, 2000, be extended forty-five days, from July 24, 2000, to September 7, 2000.

2. The USCG notes that the NPRM asked commenters to review part 80 of the Commission's Rules and identify any rules that were obsolete, unnecessary, or duplicative. The USCG states that it needs additional time to propose many routine regulation updates and deletions as it has not been possible to complete a comprehensive review of part 80 regulations in the time provided. Further, the USCG states that it and other groups will be proposing to incorporate several International Maritime Organization (IMO) and International Telecommunications Union (ITU) regulation changes.

3. The Commission does not routinely grant extensions of time. In this instance, however, it is desirable that the record be as complete as possible and that it include the views of as large a cross section of the maritime radio community as possible. This interest must be balanced, however, against the fact that certain rules applicable to past safety systems have become obsolete or redundant, and it is necessary to implement previous changes in IMO and ITU regulations or standards. Moreover, we note that the original comment period, of ninety days after the NPRM was published in the Federal Register, was substantial. After considering all of these circumstances, we believe an extension of thirty days is warranted and would provide interested parties sufficient time to respond to the NPRM in the above-captioned proceeding. We therefore extend the period of time for filing comments to and including August 23, 2000, and we extend the period for filing reply comments to and including September 21, 2000.

4. Pursuant to Section 1.46 of the Commission's Rules, the USCG's request to extend the deadline for filing comments, filed July 14, 2000, is granted in part and denied in part to the extent indicated.

5. This action is taken by delegated authority pursuant to Sections 0.131 and 0.331 of the Commission's Rules.

Federal Communications Commission.
Magalie Roman Salas,
Secretary.

[FR Doc. 00-20877 Filed 8-16-00; 8:45 am]

BILLING CODE 6712-01-P